DEPARTMENT OF ENERGY

10 CFR Chs. II, III, and X

48 CFR Ch. 9

Unified Agenda of Federal Regulatory and Deregulatory Actions

AGENCY: Department of Energy.

ACTION: Semi-annual regulatory agenda.

SUMMARY: The Department of Energy (DOE) has prepared and is making available its portion of the semi-annual Unified Agenda of Federal Regulatory and Deregulatory Actions (Agenda) pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Independence and Security Act of 2007, the American Energy Manufacturing Technical Corrections Act and programmatic needs of DOE offices.

The Internet is the basic means for disseminating the Agenda and providing users the ability to obtain information from the Agenda database. DOE's Spring 2016 Agenda can be accessed online by going to www.reginfo.gov. Agenda entries reflect the status of activities as of approximately May 31, 2016.

Publication in the Federal Register is mandated by the Regulatory Flexibility Act (5 U.S.C. 602) only for Agenda entries that require either a regulatory flexibility analysis or periodic review under section 610 of that Act. DOE's regulatory flexibility agenda is made up of five rulemakings setting energy efficiency standards for the following products:

• General Service Lamps

• Walk-In Coolers and Freezers

• Commercial Packaged Boilers

• Cooking Products

• Residential Furnaces

• Miscellaneous Refrigeration Equipment

P. Croley,
General Counsel.

Energy Efficiency and Renewable Energy—Proposed Rule Stage
Sequence No. | Title | Regulation Identifier No.
91 | Energy Conservation Standards for Commercial Packaged Boilers | 1904-AD01
92 | Energy Conservation Standards for General Service Lamps | 1904-AD09

Energy Efficiency and Renewable Energy—Final Rule Stage
Sequence No. | Title | Regulation Identifier No.
93 | Test Procedures for Light-Emitting Diode Lamps | 1904-AC67
94 | Energy Efficiency Standards for Residential Dehumidifiers | 1904-AC81
95 | Energy Conservation Standards for Commercial Warm Air Furnaces | 1904-AD11
96 | Energy Conservation Standards for Ceiling Fans | 1904-AD28

Energy Efficiency and Renewable Energy—Completed Actions
Sequence No. | Title | Regulation Identifier No.
97 | Energy Conservation Standards for Commercial and Industrial Pumps | 1904-AC54
98 | Energy Conservation Standards for Residential Ceiling Fan Light Kits | 1904-AC87
99 | Energy Conservation Standards for Residential Boilers | 1904-AC88
100 | Standards for Refrigerated Bottled or Canned Beverage Vending Machines | 1904-AD00
101 | Energy Conservation Standards for Commercial Pre-Rinse Spray Valves | 1904-AD31

Defense and Security Affairs—Proposed Rule Stage
Sequence No. | Title | Regulation Identifier No.
102 | Chronic Beryllium Disease Prevention Program | 1992-AA39
103 | Workplace Substance Abuse Programs at DOE Sites | 1992-AA53

DEPARTMENT OF ENERGY (DOE)

Energy Efficiency and Renewable Energy (EE)

Proposed Rule Stage

91. Energy Conservation Standards for Commercial Packaged Boilers

Legal Authority: 42 U.S.C. 6313(a)(6)(C)

Abstract: EPCA, as amended by AEMTCA, requires the Secretary to determine whether updating the statutory energy conservation standards for commercial packaged boilers is technically feasible and economically justified and would save a significant amount of energy. If justified, the Secretary will issue amended energy conservation standards for such equipment.

Timetable:

Action | Date | FR Cite
Notice of Proposed Determination (NOPD) | 08/13/13 | 78 FR 49202
NOPD Comment Period End | 09/12/13
Notice of Public Meeting and Framework Document Availability | 09/03/13 | 78 FR 54197
Framework Document Comment Period End | 10/18/13
Notice of Public Meeting and Preliminary Analysis | 11/20/14 | 79 FR 69066
Preliminary Analysis Comment Period End | 01/20/15
Withdrawal of NOPD | 08/25/15 | 80 FR 51487
NPRM | 03/24/16 | 81 FR 15836
NPRM Comment Period End | 05/23/16
NPRM Comment Period Extended | 05/04/16 | 81 FR 26747
NPRM Comment Period Extended End | 06/22/16

Regulatory Flexibility Analysis Required: Yes.

Agency Contact: James Raba, Office of Building Technologies Program, EE-5B, Department of Energy, Energy Efficiency and Renewable Energy, 1000 Independence Avenue SW., Washington, DC 20585, Phone: 202 586-8654, Email: jim.raba@ee.doe.gov.

RIN: 1904-AD01

92. Energy Conservation Standards for General Service Lamps

Legal Authority: 42 U.S.C. 6295(i)(6)(A) and (B)

Abstract: Amendments to Energy Policy and Conservation Act (EPCA) in the Energy Independence and Security Act of 2007 direct DOE to conduct two rulemaking cycles to evaluate energy conservation standards for GSLs, the first of which must be initiated no later than January 1, 2014. EPCA specifically states that the scope of the rulemaking is not limited to incandescent lamp technologies. EPCA also states that DOE must consider in the first rulemaking cycle the minimum backstop requirement of 45 lumens per watt for general service lamps (GSLs) effective January 1, 2020. This rulemaking constitutes DOE's first rulemaking cycle.

Timetable:

Action | Date | FR Cite
Framework Document Availability; Notice of Public Meeting | 12/09/13 | 78 FR 73737
Framework Document Comment Period End | 01/23/14
Framework Document Comment Period Extended | 01/23/14 | 79 FR 3742
Framework Document Comment Period Extended End | 02/07/14
Preliminary Analysis; Notice of Public Meeting | 12/11/14 | 79 FR 73503
Preliminary Analysis Comment Period End | 02/09/15
Preliminary Analysis Comment Period Extended | 01/30/15 | 80 FR 5052
Preliminary Analysis Comment Period Extended End | 02/23/15
Notice of Public Meeting; Webinar | 03/15/16 | 81 FR 13763
NPRM | 03/17/16 | 81 FR 14528
NPRM Comment Period End | 05/16/16
Final Action | 12/00/16

Regulatory Flexibility Analysis Required: Yes.

Agency Contact: Lucy DeButts, Office of Buildings Technologies Program, EE-5B, Department of Energy, Energy Efficiency and Renewable Energy, 1000 Independence Avenue SW., Washington, DC 20585, Phone: 202 287-1604 Email: lucy.debutts@ee.doe.gov.

RIN: 1904-AD09

DEPARTMENT OF ENERGY (DOE)

Energy Efficiency and Renewable Energy (EE)

Final Rule Stage

93. Test Procedures for Light-Emitting Diode Lamps

Legal Authority: 42 U.S.C. 6294(a)(6); 42 U.S.C. 6293

Abstract: EPCA, as amended by EISA 2007, requires the Secretary to create test procedures for light emitting diode (LED) lamps that accurately represent the energy consumption of this product. This rulemaking is supporting the implementation by the Federal Trade Commission of labeling provisions under 42 U.S.C. 6294(a)(6), as well as the ongoing general service lamps rulemaking, which includes LED lamps.

Timetable:

Action | Date | FR Cite
NPRM | 04/09/12 | 77 FR 21038
NPRM Comment Period End | 06/25/12
Supplemental NPRM | 06/03/14 | 79 FR 32019
Supplemental NPRM Comment Period End | 08/04/14
Second Supplemental NPRM | 06/26/14 | 79 FR 36242
Second Supplemental NPRM Comment Period End | 08/04/14
Third Supplemental NPRM | 07/09/15 | 80 FR 39644
Third Supplemental NPRM Comment Period End | 08/10/15
Final Action | 07/00/16

Regulatory Flexibility Analysis Required: Yes.

Agency Contact: Lucy DeButts, Office of Buildings Technologies Program, EE-5B, Department of Energy, Energy Efficiency and Renewable Energy, 1000 Independence Avenue SW., Washington, DC 20585, Phone: 202 287-1604, Email: lucy.debutts@ee.doe.gov.

RIN: 1904-AC67

94. Energy Efficiency Standards for Residential Dehumidifiers

Legal Authority: 42 U.S.C. 6295(m) and (cc)

Abstract: EPCA requires the Secretary to determine whether updating the statutory energy conservation standards for residential dehumidifiers is technically feasible and economically justified and would result in significant energy savings. If these criteria are met, the Secretary will issue amended energy conservation standards.

Timetable:

Action | Date | FR Cite
Notice of Public Meeting and Framework Document Availability | 08/17/12 | 77 FR 49739
Framework Document Comment Period Extended | 08/28/12 | 77 FR 51943
Framework Document Comment Period Extended End | 10/17/12
Notice of Public Meeting and Preliminary Analysis | 05/22/14 | 79 FR 29380
Preliminary Analysis Comment Period End | 07/21/14
NPRM | 06/03/15 | 80 FR 31646
NPRM Comment Period End | 08/03/15
Final Action | 05/00/16

Regulatory Flexibility Analysis Required: Yes.

Agency Contact: John Cymbalsky, Office of Building Technologies Program, EE-5B, Department of Energy, Energy Efficiency and Renewable Energy, 1000 Independence Avenue SW., Washington, DC 20585, Phone: 202 287-1692, Email: john.cymbalsky@ee.doe.gov.

RIN: 1904-AC81

95. Energy Conservation Standards for Commercial Warm Air Furnaces

Legal Authority: 42 U.S.C. 6313(a)(6)(C)(i) and (vi); 42 U.S.C. 6316; 42 U.S.C. 6295(p)(4)

Abstract: EPCA, as amended by AEMTCA, requires the Secretary to determine whether updating the statutory energy conservation standards for commercial warm air furnaces is technically feasible and economically justified and would save a significant amount of energy. If justified, the Secretary will issue amended energy conservation standards for this type of equipment. On April 1, 2015, DOE published a notice announcing the creation of a working group under the Appliance Standards Federal Rulemaking Advisory Committee (ASRAC). (80 FR 17363) to potentially develop negotiated standards. DOE has since published a direct final rule and supplemental notice of proposed rulemaking that embodies the standards-related aspects of the recommendations submitted to (and approved by) ASRAC.

Timetable:

Action | Date | FR Cite
Request for Information (RFI) | 05/02/13 | 78 FR 25627
RFI Comment Period End | 06/03/13
NPRM | 02/04/15 | 80 FR 6182
NPRM Comment Period End | 04/06/15
Notice of Intent to Form Working Group | 04/01/15 | 80 FR 17363
Notice of Public Meeting for Working Group | 05/07/15 | 80 FR 26199
Direct Final Rule | 01/15/16 | 81 FR 2420
Supplemental NPRM | 01/15/16 | 81 FR 2111
Direct Final Rule and SNPRM Comment Period End | 05/04/16
Direct Final Rule Effective | 05/16/16
Final Action | 06/00/16

Regulatory Flexibility Analysis Required: Yes.

Agency Contact: John Cymbalsky, Office of Building Technologies Program, EE-5B, Department of Energy, Energy Efficiency and Renewable Energy, 1000 Independence Avenue SW., Washington, DC 20585, Phone: 202 287-1692, Email: john.cymbalsky@ee.doe.gov.

RIN: 1904-AD11

96. Energy Conservation Standards For Ceiling Fans

Legal Authority: 42 U.S.C. 6295(ff)

Abstract: EPCA authorizes the Secretary to determine whether updating the statutory energy conservation standards for ceiling fans is technically feasible and economically justified and would result in significant energy savings. If these criteria are met, the Secretary may issue amended energy conservation standards for ceiling fans.

Timetable:

Action | Date | FR Cite
NPRM | 01/13/16 | 81 FR 1688
NPRM Comment Period End | 03/14/16
NPRM Comment Period Extended | 03/15/16 | 81 FR 13763
NPRM Comment Period Extended End | 04/14/16
Final Action | 07/00/16

Regulatory Flexibility Analysis Required: Yes.

Agency Contact: Lucy DeButts, Office of Buildings Technologies Program, EE-5B, Department of Energy, Energy Efficiency and Renewable Energy, 1000 Independence Avenue SW., Washington, DC 20585, Phone: 202 287-1604, Email: lucy.debutts@ee.doe.gov.

RIN: 1904-AD28

DEPARTMENT OF ENERGY (DOE)

Energy Efficiency and Renewable Energy (EE)

Completed Actions

97. Energy Conservation Standards for Commercial and Industrial Pumps

Legal Authority: 42 U.S.C. 6311(1)(A)

Abstract: EPCA, as amended, authorizes the Secretary to determine whether establishing energy conservation standards for commercial and industrial pumps is technically feasible and economically justified and would save a significant amount of energy. On June 13, 2013, DOE published a notice of intent to establish a negotiated rulemaking working group for the commercial and industrial pumps rulemaking under the Appliance Standards and Rulemaking Federal Advisory Committee (ASRAC) in accordance with the Federal Advisory Committee Act (FACA) and the Negotiated Rulemaking Act (NRA) to negotiate proposed Federal standards for the energy efficiency of commercial and industrial pumps (78 FR 44036). The purpose of the working group was to discuss and, if possible, reach consensus on a proposed rule for the energy efficiency of commercial and industrial pumps. The working group negotiated standard levels that were accepted by ASRAC on July 7, 2014. As a result, DOE has proposed to adopt the working groups' recommendations.

Completed:

Reason | Date | FR Cite
Final Action | 01/26/16 | 81 FR 4368
Final Action Effective | 03/28/16 |

Regulatory Flexibility Analysis Required: Yes.

Agency Contact: John Cymbalsky, Phone: 202 287-1692, Email: john.cymbalsky@ee.doe.gov.

RIN: 1904-AC54

98. Energy Conservation Standards for Residential Ceiling Fan Light Kits

Legal Authority: 42 U.S.C. 6295(ff)(5)

Abstract: EPCA authorizes the Secretary to determine whether updating the statutory energy conservation standards for ceiling fan light kits is technically feasible and economically justified and would result in significant energy savings. If the criteria are met, the Secretary may issue amended energy conservation standards for these products.

Completed:

Reason | Date | FR Cite
Final Action | 01/06/16 | 81 FR 580
Final Action Effective | 03/07/16 |

Regulatory Flexibility Analysis Required: Yes.

Agency Contact: Lucy DeButts, Phone: 202 287-1604, Email: lucy.debutts@ee.doe.gov.

RIN: 1904-AC87

99. Energy Conservation Standards for Residential Boilers

Legal Authority: 42 U.S.C. 6295(f)(4)(C); 42 U.S.C. 6295(m)(1); 42 U.S.C. 6295(gg)(3)

Abstract: EPCA, as amended by EISA 2007, requires the Secretary to determine whether updating the statutory energy conservation standards for residential boilers is technically feasible and economically justified and would result in significant conservation of energy. If justified, the Secretary will issue amended energy conservation standards for residential boilers.

Completed:

Reason | Date | FR Cite
Final Action | 01/15/16 | 81 FR 2320
Final Action Effective | 03/15/16 |
Final Action; Technical Correction | 01/27/16 | 81 FR 4574
Final Action; Technical Correction Effective | 01/27/16 |

Regulatory Flexibility Analysis Required: Yes.

Agency Contact: John Cymbalsky, Phone: 202 287-1692, Email: john.cymbalsky@ee.doe.gov.

RIN: 1904-AC88

100. Standards for Refrigerated Bottled or Canned Beverage Vending Machines

Legal Authority: 42 U.S.C. 6295(m)(1)

Abstract: EPCA, as amended by AEMTCA 2012, requires the Secretary to determine whether updating the statutory energy conservation standards for refrigerated beverage vending machines is technologically feasible and economically justified. The Secretary issued amended energy conservation standards on January 8, 2016.

Completed:

Reason | Date | FR Cite
Final Action | 01/08/16 | 81 FR 1028
Final Action Effective | 03/08/16 |
Final Rule; Correcting Amendment | 04/25/16 | 81 FR 24009
Final Rule; Correcting Amendment Effective | 04/25/16 |

Regulatory Flexibility Analysis Required: Yes.

Agency Contact: John Cymbalsky, Phone: 202 287-1692, Email: john.cymbalsky@ee.doe.gov.

RIN: 1904-AD00

101. Energy Conservation Standards for Commercial Pre-Rinse Spray Valves

Legal Authority: 42 U.S.C. 6295(m)

Abstract: EPCA, as amended by EPACT 2005, requires the Secretary to determine whether amending the statutory energy conservation standards for commercial pre-rinse spray valves is technologically feasible and economically justified. If justified, the Secretary will issue amended energy conservation standards for commercial prerinse spray valves.

Completed:

Reason | Date | FR Cite
Notice of Data Availability (NODA) | 11/12/15 | 80 FR 69888
NODA Comment Period End | 12/04/15 |
Final Action | 01/27/16 | 81 FR 4748
Final Action Effective | 03/28/16 |

Regulatory Flexibility Analysis Required: Yes.

Agency Contact: Ashley Armstrong, Phone: 202 586-6590, Email: ashley.armstrong@ee.doe.gov.

RIN: 1904-AD31

DEPARTMENT OF ENERGY (DOE)

Defense and Security Affairs (DSA)

Proposed Rule Stage

102. Chronic Beryllium Disease Prevention Program

Legal Authority: 42 U.S.C. 2201(i)(3), and (p); 42 U.S.C. 2282c; 29 U.S.C. 668; 42 U.S.C. 7107 et seq.; 50 U.S.C. 2401 et seq.; E.O. 12196

Abstract: The Department of Energy is amending its current chronic beryllium disease prevention program regulation. The proposed amendments would improve and strengthen the current provisions and continue to be applicable to DOE Federal and contractor employees who are, were, or potentially were exposed to beryllium at DOE sites.

Timetable:

Action | Date | FR Cite
NPRM | 05/00/16 |
NPRM Comment Period End | 07/00/16 |
Final Action | 07/00/17 |

Regulatory Flexibility Analysis Required: Yes.

Agency Contact: Jacqueline D. Rogers, Industrial Hygienist, AU-11, Department of Energy, 1000 Independence Avenue SW., Washington, DC 20585, Phone: 202 586-4714, Email: jackie.rogers@hq.doe.gov.

RIN: 1992-AA39

103. • Workplace Substance Abuse Programs at Doe Sites

Legal Authority: 41 U.S.C. 701 et seq.; 41 U.S.C. 2012, 2013, 2051, 2061, 2165, 2201b, 2201i, and 2201p; 42 U.S.C. 5814 and 5815; 42 U.S.C. 7151, 7251, and 7256; 50 U.S.C. 2401 et seq.

Abstract: The Department of Energy is amending its regulation related to workplace substance abuse programs at DOE sites. The proposed amendments would address drug and alcohol abuse; testing workers in certain sensitive positions; development and approval of a workplace substance abuse program; employee assistance programs; and training. The proposed amendments would improve and strengthen the substance abuse programs; and enhance consistency with advances in similar rules and other Federal drug and alcohol programs that place similar requirements on the private sector.

Timetable:

Action | Date | FR Cite
NPRM | 12/00/16 |
NPRM Comment Period End | 03/00/17 |
Final Action | 12/00/17 |

Regulatory Flexibility Analysis Required: Yes.

Agency Contact: Jacqueline D. Rogers, Industrial Hygienist, AU-11, Department of Energy, 1000 Independence Avenue SW., Washington, DC 20585, Phone: 202 586-4714, Email: jackie.rogers@hq.doe.gov.

RIN: 1992-AA53

[FR Doc. 2016-12903 Filed 6-8-16; 8:45 am]

BILLING CODE 6450-01-P